DEPARTMENT OF LABOR

Occupational Safety and Health Administration

Agency Information Collection Activities: Announcement of the Office of Management and Budget (OMB) Control Numbers Under the Paperwork Reduction Act

AGENCY: Occupational Safety and Health Administration (OSHA), Labor.

ACTION: Notice; announcement of the Office of Management and Budget's (OMB) approval of information collection requirements.

SUMMARY: The Occupational Safety and Health Administration (OSHA) announces that OMB extended approval for information collection requirements found in OSHA's standards and its regulations on the Student Data Form and Conflict of Interest and Disclosure Form outlined in this notice. OSHA sought approval of these requirements under the Paperwork Reduction Act of 1995 (PRA), and, as required by that Act, is announcing the approval numbers and expiration dates for these requirements and regulations.

DATES: Applicable February 23, 2021.

FOR FURTHER INFORMATION CONTACT: Seleda Perryman or Theda Kenney, Directorate of Standards and Guidance, OSHA, U.S. Department of Labor, telephone (202) 693-2222.

SUPPLEMENTARY INFORMATION: In a series of Federal Register notices, the agency provided 60-day comment periods for the public to respond to OSHA's burden hour and cost estimates. The various information collection (paperwork) requirements in the safety and health standards pertain to general industry, construction, shipyards and maritime (i.e., 29 CFR parts 1910, 1915, and 1926), and its regulations on the OSHA Student Data Form and OSHA's Conflict of Interest and Disclosure Form.

In accordance with the PRA (44 U.S.C. 3501-3520), OMB approved these information collection requirements. The table provides the following information for each of these requirements approved by OMB: The title of the Federal Register notice; the Federal Register citation (date, volume, and leading page); OSHA docket number; OMB's Control Number; and the new expiration date.

In accordance with 5 CFR 1320.5(b), an agency cannot conduct, sponsor, or require a response to a collection of information unless the collection displays a valid OMB control number and the agency informs respondents that they need not respond to the collection of information.

Title of the information collection request | Date of Federal Register publication, Federal Register citation, and OSHA Docket No. | OMB control No. | Expiration date
1,3-Butadiene Standard (29 CFR 1910.1051) | December 27, 2019, 84 FR 71477, Docket No. OSHA-2012-0027 | 1218-0170 | 07/31/2023
4,4'-Methylenedianiline for General Industry (29 CFR 1910.1050) | November 12, 2019, 84 FR 61077, Docket No. OSHA-2012-0040 | 1218-0184 | 07/31/3023
Access to Employee Exposure and Medical Records (29 CFR 1910.1020) | February 2, 2020, 85 FR 6580, Docket No. OSHA-2009-0043 | 1218-0065 | 10/31/2023
Aerial Lifts Standard (29 CFR 1926.453) | February 26, 2020, 85 FR 11110, Docket No. OSHA-2009-0045 | 1218-0216 | 10/31/2023
Asbestos in General Industry Standard (29 CFR 1910.1001) | February 6, 2020, 85 FR 6979, Docket No. OSHA-2010-0018 | 1218-0133 | 07/31/2023
Asbestos in Shipyards Standard (29 CFR 1915.1001) | November 29, 2019, 84 FR 65849, Docket No. OSHA-2012-0009 | 1218-0195 | 07/31/2023
Benzene (29 CFR 1910.1028) | November 29, 2019, 84 FR 65848, Docket No. OSHA-2013-0008 | 1218-0129 | 07/31/2023
Cadmium in Construction Standard (29 CFR 1926.1127) | November 29, 2019, 84 FR 65844, Docket No. OSHA-2012-0004 | 1218-0186 | 06/30/2023
Construction Fall Protection Systems Criteria, Practices, and Training Requirements | February 26, 2020, 85 FR 11118, Docket No. OSHA-2010-0008 | 1218-0197 | 10/31/2023
Crawler, Locomotive, and Truck Cranes Standard (29 CFR 1910.180) | February 26, 2020, 85 FR 11112, Docket No. OSHA-2010-0015 | 1218-0221 | 10/31/2023
Derricks Standard (29 CFR 1910.181) | October 1, 2019, 84 FR 52143, Docket No. OSHA-2010-0016 | 1218-0222 | 07/31/2023
Ethylene Oxide Standard (29 CFR 1910.1047) | May 27, 2020, 85 FR 31812, Docket No. OSHA-2009-0035 | 1218-0108 | 12/31/2023
Formaldehyde Standard (29 CFR 1910.1048) | February 26, 2020, 85 FR 11107, Docket No. OSHA-2009-0041 | 1218-0145 | 10/31/2023
Hazardous Waste Operations and Emergency Response (HAZWOPER) Standard (29 CFR 1910.120) | November 8, 2019, 84 FR 60455, Docket No. OSHA-2011-0862 | 1218-0202 | 12/31/2023
Hexavalent Chromium Standards for General Industry (29 CFR 1910.1026), Shipyard Employment (29 CFR 1915.1026), and Construction (29 CFR 1926.1126) | October 25, 2019, 84 FR 57488, Docket No. OSHA-2012-0034 | 1218-0252 | 06/30/2023
Lead in General Industry Standard (29 CFR 1910.1025) | August 27, 2019, 84 FR 44931, Docket No. OSHA-2012-0013 | 1218-0092 | 04/30/2023
Logging Operations Standard (29 CFR 1910.266) | April 24, 2020, 85 FR 23068, Docket No. OSHA-2010-0041 | 1218-0198 | 12/31/2023
Manlifts Standard (29 CFR 1910.68(e)) | June 2, 2020, 85 FR 33734, Docket No. OSHA-2010-0051 | 1218-0226 | 12/31/2023
Occupational Safety and Health Administration Conflict of Interest and Disclosure Form | December 23, 2019, 84 FR 70572, Docket No. OSHA-2009-0042 | 1218-0255 | 10/31/2023
Presence Sensing Device Initiation (PSDI) Standard (29 CFR 1910.217(h)) | April 9, 2020, 85 FR 19961, Docket No. OSHA-2010-0009 | 1218-0143 | 10/31/2023
Respirable Crystalline Silica Standards for General Industry, Maritime (29 CFR 1910.1053) and Construction (29 CFR 1926.1053) | October 1, 2019, 84 FR 52144, Docket No. OSHA-2019-0002 | 1218-0266 | 06/30/2023
Rigging Equipment for Material Handling (29 CFR 1926.251) | June 24, 2020, 85 FR 37960, Docker No. OSHA-2010-0038 | 1218-0233 | 12/31/2023
Special Dipping and Coating Operations (Dip Tanks) (29 CFR 1910.126(g)(4)) | November 8, 2019, 84 FR 60454, Docket No. OSHA-2010-0020 | 1218-0237 | 06/30/2023
Standard on 4,4′-Methylenedianiline for General Industry (29 CFR 1910.1050) | November 12, 2019, 84 FR 61077, Docket No. OSHA-2012-0040 | 1218-0184 | 07/31/2023
Student Data Form | December 27, 2019, 84 FR 71478, Docket No. OSHA-2010-0022 | 1218-0172 | 07/31/2023
Walking-Working Surfaces Standard (29 CFR part 1910, subpart D) | July 25, 2019, 84 FR 35888, Docket No. OSHA-2013-0002 | 1218-0199 | 07/31/2023
Welding, Cutting, and Brazing Standard (29 CFR part 1910, subpart Q) | November 21, 2019, 84 FR 64348, Docket No. OSHA-2010-0037 | 1218-0207 | 07/31/2023

Authority and Signature

Amanda L. Edens, Deputy Assistant Secretary of Labor for Occupational Safety and Health, directed the preparation of this notice. The authority for this notice is the Paperwork Reduction Act of 1995 (44 U.S.C. 3506 et seq.) and Secretary of Labor's Order No. 1-2012 (77 FR 3912).

Signed at Washington, DC, on February 11, 2021.
Amanda L. Edens,
Deputy Assistant Secretary of Labor for Occupational Safety and Health.

[FR Doc. 2021-03654 Filed 2-22-21; 8:45 am]

BILLING CODE 4510-26-P